DEPARTMENT OF COMMERCE

National Oceanic and Atmospheric Administration

Agency Information Collection Activities; Submission to the Office of Management and Budget (OMB) for Review and Approval; Comment Request; Pacific Islands Logbook Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before July 26, 2021.

ADDRESSES: Interested persons are invited to submit written comments to Adrienne Thomas, NOAA PRA Officer, at adrienne.thomas@noaa.gov. Please reference OMB Control Number 0648-0214 in the subject line of your comments. Do not submit Confidential Business Information or otherwise sensitive or protected information.

FOR FURTHER INFORMATION CONTACT: Requests for additional information or specific questions related to collection activities should be directed to Walter Ikehara, Fishery Information Specialist, NOAA Fisheries Service, Pacific Islands Region, walter.ikehara@noaa.gov or (808) 725-5175.

SUPPLEMENTARY INFORMATION:

I. Abstract

This request is for extension of a currently approved information collection.

Vessel operators or owners in Federally-managed fisheries in the Pacific Islands Region (PIR) are required to provide certain information about their fishing activities, catch, and interactions with protected species by submitting reports to National Marine Fisheries Service, per 50 CFR part 665.14. These data are needed to determine the condition of fish stocks and whether current management measures are having the intended effects, to evaluate the benefits and costs of changes in management measures, and to monitor and respond to accidental takes of endangered and threatened species, including seabirds, sea turtles, and marine mammals.

The reports are submitted using paper logbooks or electronic logbooks (computer tablets or other devices) to the National Marine Fisheries Service (NMFS) Fisheries Pacific Islands Fisheries Science Center. The Hawaii and American Samoa pelagic longline fisheries will submit reports using electronic logbooks, although paper logbooks will be used if there are equipment or transmission failures. Electronic logbooks collect the same information as paper logbooks. All other PIR fisheries use paper logbooks only.

Longline vessel operators are also required to submit pre-trip notifications, including information on trip type, departure time, and transit through a protected species zone per 50 CFR 665.803. Other fisheries are required to submit notifications of trip return, unloading, or sales reports per regulations in multiple Subparts of 50 CFR 665.

II. Method of Collection

Respondents will report their catch using paper logbooks or electronic logbooks. Methods of submittal include submission by mail or facsimile for paper logbooks, and via the vessel monitoring system or online for electronic logbook data. Notifications may be made by phone or email.

III. Data

OMB Control Number: 0648-0214.

Form Number(s): None.

Type of Review: Regular (extension of a currently approved collection of information).

Affected Public: Individuals or households, and small businesses.

Estimated Number of Respondents: 561.

Estimated Time per Response: From 5 to 35 minutes per report or notification, depending on type; average 16 minutes per response.

Estimated Total Annual Burden Hours: 6,870.

Estimated Total Annual Cost to Public: $112,318.

Respondent's Obligation: Mandatory.

Legal Authority: 50 CFR 665.

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-10988 Filed 5-24-21; 8:45 am]

BILLING CODE 3510-22-P